CONSUMER PRODUCT SAFETY COMMISSION

Civil Penalties; Notice of Adjusted Maximum Amounts

Correction

In notice document 2021-26082 appearing on page 68244 in the issue of Wednesday, December 1, 2021, make the following corrections:

On page 68244, in the third column, in the second line, “January 1, 2022” should appear as “January 1, 2022 ¹”.

On the same page, in the same column, at the bottom of the page, footnote 1 should appear as:

¹ The Commission voted unanimously to approve publication in the Federal Register of this notice.

[FR Doc. C1-2021-26082 Filed 12-10-21; 8:45 am]

BILLING CODE 0099-10-P